DEPARTMENT OF TRANSPORTATION

Federal Aviation Administration

[Summary Notice No. 2019-39]

Petition for Exemption; Summary of Petition Received; Helinet Aviation Services, LLC

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before September 25, 2019.

ADDRESSES: Send comments identified by docket number FAA-2019-0463 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Jake Troutman, (202) 683-7788, Office of Rulemaking, Federal Aviation Administration, 800 Independence Avenue SW, Washington, DC 20591.

This notice is published pursuant to 14 CFR 11.85.

Issued in Washington, DC, on August 15, 2019.
John Linsenmeyer,
Acting Deputy Director, Office of Rulemaking.

Petition for Exemption

Docket No.: FAA-2019-0463.

Petitioner: Helinet Aviation Services, LLC.

Section(s) of 14 CFR Affected: §§ 61.23(a) & (c); 61.101(e)(4) & (5); 61.113(a); 61.315(a); 91.7(a); 91.119(c); 91.121; 91.151(a)(1); 91.405(a); 91.407(a)(1); 91.409(a)(1) & (2); & 91.417(a) & (b).

Description of Relief Sought: The proposed exemption, if granted, would allow the petitioner to operate the BFD Systems GD40 (110 pounds (lbs.)); DJI Storm/X8 (99 lbs.); and Periscope MK-IV (117 lbs.) unmanned aircraft systems (UAS), in support of closed-set motion picture and television filming operations. The petitioner intends to operate the UAS closer than 200 feet to production personnel and other individuals participating in the intended purposes of the operation who are located on the closed set; however, the UAS will never be operated over people. The operations will take place below 400 feet above ground level and within visual line of sight of the pilot and a visual observer. Operations will occur during daylight hours on private property with permission from the property owner/controller. Operations will be limited to Class G airspace unless an appropriate Air Traffic Organization Certificate of Waiver or Authorization has been obtained that authorizes operations in other classes of airspace.

[FR Doc. 2019-19128 Filed 9-4-19; 8:45 am]

BILLING CODE 4910-13-P